DEPARTMENT OF ENERGY

Federal Energy Regulatory Commission

[Project No. 15314-000]

County of Coconino, AZ; Notice of Preliminary Permit Application Accepted for Filing and Soliciting Comments, Motions To Intervene, and Competing Applications

On June 12, 2023, Western Navajo Pumped Storage 1, LLC, filed an application for a preliminary permit, pursuant to section 4(f) of the Federal Power Act (FPA), proposing to study the feasibility of the to be located near the City of Page in Coconino County, Arizona. The sole purpose of a preliminary permit, if issued, is to grant the permit holder priority to file a license application during the permit term. A preliminary permit does not authorize the permit holder to perform any land-disturbing activities or otherwise enter upon lands or waters owned by others without the owners' express permission.

The project is proposed as a closed loop pumped storage hydroelectric-generating facility, which would involve the construction of new water storage, water conveyance, and generation facilities at off-channel locations where no such facilities exist at this time. The project would utilize water from Lake Powell to fill and periodically refill the project reservoirs. The lower reservoir would be located approximately 5,280 feet west from the proposed upper reservoir. A zoned rockfill embankment dike approximately 75 feet high and 8,200 feet long is proposed to be constructed to enclose the perimeter of the 110-acre lower reservoir with a water surface elevation of 4,125 feet mean sea level (msl). The upper reservoir would be located approximately 5,280 feet east from the proposed lower reservoir. A zoned rockfill embankment dike approximately 75 feet high and 8,000 feet long is proposed to be constructed to enclose the perimeter of the 110-acre upper reservoir with a water surface elevation of 4,625 feet msl. Both embankment ring dikes would have an impermeable clay core and an impermeable concrete liner.

During pumping operations, water would be drawn through the eight reversible Francis pump-turbine units into eight 12-foot-diameter steel pipes that would merge into a 34 foot-diameter penstock, which would convey water to the upper reservoir. During generation, operations would be reversed. The total installed generation capacity would be 396 megawatts with a hydraulic head of 500 feet.

The proposed project would also include a new 3-mile-long, 230-kilovolt overhead transmission line that would extend from a proposed substation near the proposed powerhouse to an interconnection point with the substation located at the former Navajo Generating Station. The 3-mile-long transmission route would follow an approximately 150-foot-wide corridor southwest towards the former coal plant substation. The proposed substation would include two 200-megavolt-ampere Generator Step-up Units, relays and controls, breakers, and switches as required by the existing substation owner/electric service provider.

Applicant Contact: Mr. Erik Steimle, Western Navajo Pumped Storage 1, LLC, 100 S Olive Street, West Palm Beach, FL 33401; erik@ryedevelopment.com; phone: (503) 998-0230.

FERC Contact: Everard Baker; email: everard.baker@ferc.gov; phone: (202) 502-8554.

The Commission's Office of Public Participation (OPP) supports meaningful public engagement and participation in Commission proceedings. OPP can help members of the public, including landowners, environmental justice communities, Tribal members, and others, access publicly available information and navigate Commission processes. For public inquiries and assistance with filings such as interventions, comments, or requests for rehearing, the public is encouraged to contact OPP at (202) 502-6595 or OPP@ferc.gov. Comments, motions to intervene, competing applications (without notices of intent), or notices of intent to file competing applications should be submitted within 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Secretary Kimberly Bose, Federal Energy Regulatory Commission, 888 First Street NE, Washington, DC 20426. Submissions sent via any other carrier must be addressed to: Kimberly D. Bose, Secretary, Federal Energy Regulatory Commission, 12225 Wilkins Avenue, Rockville, Maryland 20852. The first page of any filing should include docket number P-15314-000.

More information about this project, including a copy of the application, can be viewed or printed on the “eLibrary” link of Commission's website at http://www.ferc.gov/docs-filing/elibrary.asp. Enter the docket number (P-15314) in the docket number field to access the document. For assistance, contact FERC Online Support.

Dated: September 14, 2023.
Kimberly D. Bose,
Secretary.

[FR Doc. 2023-20361 Filed 9-19-23; 8:45 am]

BILLING CODE 6717-01-P